DEPARTMENT OF COMMERCE

International Trade Administration

[A-588-804, A-559-801]

Ball Bearings and Parts Thereof from Japan and Singapore; Five-year Sunset Reviews of Antidumping Duty Orders; Final Results

AGENCY: Import Administration, International Trade Administration, Department of Commerce.

SUMMARY: On June 1, 2005, the Department of Commerce (the Department) initiated sunset reviews of the antidumping duty orders on ball bearings from Japan and Singapore. See Initiation of Five-year (Sunset) Reviews, 70 FR 31423 (June 1, 2005). On the basis of a notice of intent to participate and adequate substantive responses filed on behalf of the interested parties, the Department conducted full (240-day) sunset reviews pursuant to section 751(c) of the Tariff Act of 1930, as amended (the Act), and 19 CFR 351.218(e)(2)(i). As a result of these sunset reviews, the Department finds that revocation of the antidumping duty orders would likely lead to continuation or recurrence of dumping at the levels listed below in the section entitled “Final Results of Reviews.” Based on our analysis of the comments we received, we find that it is appropriate to report a more recently calculated margin to the International Trade Commission for certain respondents.

EFFECTIVE DATE: May 4, 2006.

FOR FURTHER INFORMATION CONTACT: Zev Primor or Fred Aziz, Office 5, AD/CVD Operations, Import Administration, International Trade Administration, U.S. Department of Commerce, 14th Street & Constitution Avenue, NW., Washington, DC, 20230; telephone: 202-482-4114 or (202) 482-4023, respectively.

SUPPLEMENTARY INFORMATION:

Background

On June 1, 2005, the Department published the notice of initiation of the second sunset reviews of the antidumping duty orders on ball bearings from Japan and Singapore. See Initiation of Five-year (“Sunset”) Reviews, 70 FR 31423 (June 1, 2005). On December 28, 2005, the Department published the preliminary results of the full sunset reviews of the antidumping duty orders on ball bearings from Japan and Singapore. See Ball Bearings and Parts Thereof From Japan and Singapore; Five-year Sunset Reviews of Antidumping Duty Orders; Preliminary Results, 70 FR 76754 (December 28, 2005).¹ In our preliminary results, we found that revocation of the orders orders would likely lead to continuation or recurrence of dumping.

¹ For a full discussion of the history of these orders prior to the preliminary results of these sunset reviews, see the December 28, 2005, decision memorandum accompanying the preliminary results of sunset reviews.

On January 27, 2006, the Department received case briefs from the following parties: Japan - Koyo Seiko Co., Ltd., and Koyo Corporation of USA (collectively, Koyo), NTN Corporation and American NTN Bearing Manufacture Corporation (collectively, NTN), and NSK Corp. and NSK Ltd. (collectively, NSK); Singapore - NMB Singapore Ltd. and Pelmec Industries (Pte.) Ltd. (collectively, NMB/Pelmec). On February 1, 2006, the Department received a rebuttal brief from the Timken Company, Pacamor Kubar Bearings, and RBC Bearings (collectively, the domestic interested parties).

Scope of the Order

The products covered by these orders are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS subheadings above are provided for convenience and customs purposes, written descriptions of the scopes of these orders remain dispositive.

Analysis of Comments Received

All issues raised in these sunset reviews are addressed in the “Issues and Decision Memorandum” from Stephen J. Claeys, Deputy Assistant Secretary for Import Administration, to David M. Spooner, Assistant Secretary for Import Administration, dated April 27, 2006 (Decision Memo), which is hereby adopted by this notice. The issues discussed in the Decision Memo include the likelihood of continuation or recurrence of dumping, the magnitude of the margins likely to prevail if the antidumping duty orders were revoked, and support of the domestic industry. Parties can find a complete discussion of all issues raised in these sunset reviews and the corresponding recommendations in this public memorandum, which is on file in room B-099 of the main Department building.

In addition, a complete version of the Decision Memo can be accessed directly on the Web at http://ia.ita.doc.gov/frn. The paper copy and electronic version of the Decision Memo are identical in content.

Final Results of Review

We determine that revocation of the antidumping duty orders on ball bearings from Japan and Singapore would be likely to lead to continuation or recurrence of dumping at the following weighted-average margins:

Manufacturers/Exporters/Producers | Weighted-Average Margin (Percent)
Japan
Koyo Seiko Co., Ltd. | 12.78
Minebea Co., Ltd. | 106.61
Nachi-Fujikoshi Corp. | 48.69
NSK Ltd. | 8.28
NTN Corp. | 5.93
All Other Japanese Manufacturers/Exporters/Producers | 45.83
Singapore
NMB/Pelmec | 25.08
All Other Singaporean Manufacturers/Exporters/Producers | 25.08

Notification Regarding Administrative Protective Order

This notice also serves as the only reminder to parties subject to administrative protective order (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: April 27, 2006.
David M. Spooner,
Assistant Secretary for Import Administration.

[FR Doc. E6-6763 Filed 5-3-06; 8:45 am]

BILLING CODE 3510-DS-S